DEPARTMENT OF HOMELAND SECURITY

Office of the Secretary

[Docket No. DHS-2008-0091]

Privacy Act of 1974; United States Citizenship and Immigration Services Benefits Information System

AGENCY: Privacy Office; DHS.

ACTION: Notice of Privacy Act system of records.

SUMMARY: In accordance with the Privacy Act of 1974, the Department of Homeland Security is giving notice that it proposes to consolidate three legacy record systems: Justice/INS-013 INS Computer Linked Application Information Management System (CLAIMS) (67 FR 64132 October 17, 2002), Justice/INS-031 Redesigned Naturalization Application Casework System (RNACS) (67 FR 20996 April 29, 2002), and Justice/INS-033 I-551 Renewal Program Temporary Sticker Issuance I-90 Manifest System (SIIMS) (66 FR 6673 January 22, 2001) into one Department of Homeland Security/United States Citizenship and Immigration Services system of records notice titled, United States Citizenship and Immigration Services Benefits Information System. Categories of individuals, categories of records, and the routine uses of these legacy system of records notices have been consolidated and updated to better reflect the Department's immigration petition and application information record systems. This system will be included in the Department's inventory of record systems.

DATES: Written comments must be submitted on or before October 29, 2008. This new system will be effective October 29, 2008.

ADDRESSES: You may submit comments, identified by docket number DHS-2008-0091 by one of the following methods:

• Federal e-Rulemaking Portal: http://www.regulations.gov. Follow the instructions for submitting comments.

• Fax: 1-866-466-5370.

• Mail: Hugo Teufel III, Chief Privacy Officer, Privacy Office, Department of Homeland Security, Washington, DC 20528.

• Instructions: All submissions received must include the agency name and docket number for this rulemaking. All comments received will be posted without change to http://www.regulations.gov, including any personal information provided.

• Docket: For access to the docket to read background documents or comments received go to http://www.regulations.gov.

FOR FURTHER INFORMATION CONTACT: For general questions please contact: Donald Hawkins (202-272-8000), USCIS Privacy Officer, 20 Massachusetts Avenue, NW., Washington, DC 20529. For privacy issues, please contact: Hugo Teufel III (703-235-0780), Chief Privacy Officer, Privacy Office, U.S. Department of Homeland Security, Washington, DC 20528.

SUPPLEMENTARY INFORMATION:

I. Background

Pursuant to the savings clause in the Homeland Security Act of 2002, Public Law 107-296, Section 1512, 116 Stat. 2310 (November 25, 2002), the Department of Homeland Security (DHS) and its components and offices have relied on preexisting Privacy Act system of records notices for the maintenance of records that concern DHS/United States Citizenship and Immigration Services (USCIS) immigration application information record systems. As part of its mission, DHS implements United States immigration law and policy through the USCIS processing and adjudication of applications and petitions submitted for naturalization, request for lawful permanent residence, asylum, refugee status, and other immigrant and non immigrant benefits. USCIS also supports national security by preventing individuals from fraudulently obtaining immigration benefits and by denying applications submitted by individuals who pose national security or public safety threats.

USCIS receives and adjudicates petitions and applications for all United States immigrant and non immigrant benefits. This SORN covers the USCIS computer systems associated with processing all immigrant and non immigrant benefits applications and petitions except asylum, and refugee status. The following major computer systems maintain information covered by this SORN: CLAIMS 3, CLAIMS 4, the Redesigned Naturalization Application Casework System (RNACS); the Citizenship and Immigration Services Centralized Oracle Repository (CISCOR), the Interim Case Management System (ICMS), Integrated Voice Response System (IVRS), and the Integrated Card Production System (ICPS). These systems are referred to as the “Benefits Information Systems” throughout the remainder of this document.

System Information Use and Collection

Information in Benefits Information Systems includes information provided by the individual on the application and/or petition for an immigration benefits and non-immigrant benefits, and varies depending on the benefit. Additionally, these systems collect DHS transactional data that indicates which steps of the adjudication process have been completed such as an appointment to submit biometrics for a background check, other pending benefits, and/or whether the applicant is suspected of fraudulent activity that could bear on fitness or eligibility for the requested benefits.

Benefits Information Systems share information with many government systems internal and external to DHS. All information sharing is conducted within the parameters of existing Privacy Act of 1974 routine sharing requirements. All sharing is related to the purposes for which the information was originally collected.

In accordance with the Privacy Act of 1974, DHS is giving notice that it proposes to consolidate three legacy record systems: Justice/INS-013 INS Computer Linked Application Information Management System (CLAIMS) (67 FR 64132 October 17, 2002), Justice/INS-031 Redesigned Naturalization Application Casework System (RNACS) (67 FR 20996 April 29, 2002), and Justice/INS-033 I-551 Renewal Program Temporary Sticker Issuance I-90 Manifest System (SIIMS) (66 FR 6673 January 22, 2001) into one DHS/USCIS system of records notice titled, United States Citizenship and Immigration Services Benefits Information System. Categories of individuals, categories of records, and the routine uses of these legacy system of records notices have been consolidated and updated to better reflect DHS/USCIS's immigration application information record systems. This system will be included in the DHS's inventory of record systems.

II. Privacy Act

The Privacy Act embodies fair information principles in a statutory framework governing the means by which the United States Government collects, maintains, uses, and disseminates personally identifiable information. The Privacy Act applies to information that is maintained in a “system of records.” A “system of records” is a group of any records under the control of an agency for which information is retrieved by the name of an individual or by some identifying number, symbol, or other identifying particular assigned to the individual. In the Privacy Act, an individual is defined to encompass United States citizens and legal permanent residents. As a matter of policy, DHS extends administrative Privacy Act protections to all individuals where the systems of records maintain information on U.S. citizens, lawful permanent residents, and visitors. Individuals may request access to their own records that are maintained in a system of records in the possession or under the control of DHS by complying with DHS Privacy Act regulations, 6 CFR part 5.

The Privacy Act requires each agency, to publish in the Federal Register, a description denoting the type and character of each system of records that the agency maintains, and the routine uses of information contained in each system in order to make agency record keeping practices transparent, to notify individuals regarding the uses to which personally identifiable information is put, and to assist individuals to more easily find such files within the agency. Below is the description of the Benefits Information Systems System of Records.

In accordance with 5 U.S.C. 552a(r), DHS has provided a report of this system of records to the Office of Management and Budget (OMB) and to Congress.

System of Records:

DHS/USCIS-007

System Name:

United States Citizenship and Immigration Services Benefits Information System

Security Classification:

Unclassified.

System Location:

Records are maintained at the United States Citizenship and Immigration Services Headquarters in Washington, DC and in field offices.

Categories of Individuals Covered by the System:

Categories of individuals covered by this system include persons who have filed (for themselves or on the behalf of others) applications or petitions for immigration benefits (other than asylum and refugee) under the Immigration and Nationality Act, as amended, and/or who have submitted fee payments or received refunds from such applications or petitions; current, former and potential (e.g., fiancé) family members of applicants/petitioners; persons who complete immigration forms for applicants and petitioners (e.g., attorneys, form preparers); name of applicant's employer; and individuals who seek access to records retained in the Benefits Information System under the Freedom of Information/Privacy Acts (FOIA/PA).

Categories of Records in the System:

Categories of records in this system include:

• Individual's name;

• Social Security Number (if applicable);

• A-Number (if applicable);

• Addresses;

• Telephone numbers;

• Birth and death information;

• Citizenship or nationality;

• Immigration status;

• Marital and family status;

• Personal characteristics (e.g., height and weight);

• Records regarding tax payment and financial matters;

• Records regarding employment;

• Medical records;

• Military and Selective Service records;

• Records regarding organization membership or affiliation;

• Biometric and other information collected to conduct background checks;

• DHS issued card serial numbers;

• Records regarding criminal history and other background check information; and

• Case processing information such as date applications were filed or received by USCIS; application/petition status, location of record, FOIA/PA or other control number when applicable, and fee receipt data.

Authority for Maintenance of the System:

8 U.S.C. 1103; 8 U.S.C. 1363; and 31 U.S.C. 3512.

Purpose(s):

The purpose of this system is to assist in the automated processing of immigrant and nonimmigrant benefit petitions and applications. Both investigative and administrative records are maintained in this system to permit DHS/USCIS to function efficiently. Reports are also generated from the data within the system of records. This system of records notice enables DHS/USCIS to provide automated support to process applications and/or petitions for benefits; determine the status of pending applications and/or petitions for benefits; account for and control the receipt and disposition of any fees and refunds collected; conduct searches pursuant to FOIA and Privacy Act requests; and locate related physical and automated files to support DHS/USCIS responses to inquiries about these records.

Routine Uses of Records Maintained in the System, Including Categories of Users and the Purposes of Such Uses:

In addition to those disclosures generally permitted under 5 U.S.C. 552a(b) of the Privacy Act, all or a portion of the records contained in this system may be disclosed outside DHS as a routine use pursuant to 5 U.S.C. 552a(b)(3) as follows:

A. To the Department of Justice or other Federal agency conducting litigation or in proceedings before any court, adjudicative or administrative body, when:

1. DHS or any component thereof;

2. Any employee of DHS in his/her official capacity;

3. Any employee of DHS in his/her individual capacity where DOJ or DHS has agreed to represent the employee; or

4. The United States or any agency thereof, is a party to the litigation or has an interest in such litigation, and DHS determines that the records are both relevant and necessary to the litigation and the use of such records is compatible with the purpose for which DHS collected the records.

B. To a congressional office from the record of an individual in response to an inquiry from that congressional office made at the request of the individual to whom the record pertains.

C. To the National Archives and Records Administration or other Federal government agencies pursuant to records management inspections being conducted under the authority of 44 U.S.C. 2904 and 2906.

D. To an agency, organization, or individual for the purpose of performing audit or oversight operations as authorized by law, but only such information as is necessary and relevant to such audit or oversight function.

E. To appropriate agencies, entities, and persons when:

1. DHS suspects or has confirmed that the security or confidentiality of information in the system of records has been compromised;

2. The Department has determined that as a result of the suspected or confirmed compromise there is a risk of harm to economic or property interests, identity theft or fraud, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate Federal, State, tribal, local, international, or foreign law enforcement agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

H. To clerks and judges of courts exercising naturalization jurisdiction for the purpose of filing petitions for naturalization and to enable such courts to determine eligibility for naturalization or grounds for revocation of naturalization.

I. To the Department of State for the purpose of assisting in the processing of petitions or applications for benefits under the Immigration and Nationality Act, and all other immigration and nationality laws including treaties and reciprocal agreements.

J. To appropriate Federal, State, tribal, and local government law enforcement and regulatory agencies, foreign governments, and international organizations, for example: The Department of Defense; the Department of State; the Department of the Treasury; the Central Intelligence Agency; the Selective Service System; the United Nations; and the International Criminal Police Organization (INTERPOL); as well as to other individuals and organizations during the course of an investigation by DHS or the processing of a matter under DHS's jurisdiction, or during a proceeding within the purview of the immigration and nationality laws, when DHS deems that such disclosure is necessary to carry out its functions and statutory mandates to elicit information required by DHS to carry out its functions and statutory mandates.

K. To an appropriate Federal, State, local, tribal, foreign, or international agency, if the information is relevant and necessary to a requesting agency's decision concerning the hiring or retention of an individual, or issuance of a security clearance, license, contract, grant, or other benefit, or if the information is relevant and necessary to a DHS decision concerning the hiring or retention of an employee, the issuance of a security clearance, the reporting of an investigation of an employee, the letting of a contract, or the issuance of a license, grant or other benefit and when disclosure is appropriate to the proper performance of the official duties of the person making the request.

L. To the Office of Management and Budget in connection with the review of private relief legislation as set forth in OMB Circular No. A-19 at any stage of the legislative coordination and clearance process as set forth in the Circular.

M. To an attorney or representative (as defined in 8 CFR 1.1(j)) who is acting on behalf of an individual covered by this system of records in connection with any proceeding before DHS/USCIS or the Executive Office for Immigration Review.

N. To a Federal, State, tribal, or local government agency to assist such agencies in collecting the repayment of loans, or fraudulently or erroneously secured benefits, grants, or other debts owed to them or to the United States Government, or to obtain information that may assist USCIS in collecting debts owed to the United States Government; to a foreign government to assist such government in collecting the repayment of loans, or fraudulently or erroneously secured benefits, grants, or other debts owed to it provided that the foreign government in question:

1. Provides sufficient documentation to establish the validity of the stated purpose of its request; and

2. Provides similar information to the United States upon request.

O. To a coroner for purposes of affirmatively identifying a deceased individual (whether or not such individual is deceased as a result of a crime).

P. Consistent with the requirements of the Immigration and Nationality Act, to the Department of Health and Human Services (HHS), the Centers for Disease Control and Prevention (CDC), or to any State or local health authorities, to:

1. Provide proper medical oversight of DHS-designated civil surgeons who perform medical examinations of both arriving aliens and of those requesting status as a lawful permanent resident; and

2. To ensure that all health issues potentially affecting public health and safety in the United States are being or have been, adequately addressed.

Q. To a Federal, State or local government agency seeking to verify or ascertain the citizenship or immigration status of any individual within the jurisdiction of the agency for any purpose authorized by law.

R. To the Social Security Administration (SSA) for the purpose of issuing a Social Security number and card to an alien who has made a request for a Social Security number as part of the immigration process and in accordance with any related agreements in effect between the SSA, DHS and the Department of State entered into pursuant to 20 CFR 422.103(b)(3); 422.103(c); and 422.106(a), or other relevant laws and regulations.

S. To a former employee of DHS, in accordance with applicable regulations, for purposes of responding to an official inquiry by a Federal, State, or local government entity or professional licensing authority; or facilitating communications with a former employee that may be necessary for personnel-related or other official purposes where the Department requires information or consultation assistance from the former employee regarding a matter within that person's former area of responsibility.

T. To an individual's prospective or current employer to the extent necessary to determine employment eligibility.

U. To a Federal, State, or local agency, or other appropriate entities or individuals, or through established liaison channels to selected foreign governments, in order to provide intelligence, counterintelligence, or other information for the purposes of intelligence, counterintelligence, or antiterrorism activities authorized by U.S. law, or Executive Order.

V. To a Federal agency, where appropriate, to enable such agency to make determinations regarding the payment of Federal benefits to the record subject in accordance with that agency's statutory responsibilities.

W. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to Consumer Reporting Agencies:

Through the Debt Management Center (DMC) at DHS, Benefits Information Systems information may be shared with credit reporting agencies. The primary mission of the DMC is to collect debts resulting from an individual's participation in DHS benefits programs. Benefits Information Systems share information with the DMC regarding fees charged during various application processes to ensure collection of debts.

Policies and Practices for Storing, Retrieving, Accessing, Retaining, and Disposing of Records in the System:

Storage:

Records in this system are stored electronically or on paper in secure facilities in a locked drawer behind a locked door. The records are stored on magnetic disc, tape, digital media, and CD-ROM.

Retrievability:

Records may be retrieved by individual's name and address, telephone numbers, birth and death information, A-Number, Social Security Number (SSN), records regarding citizenship, records regarding immigration status, marital and family status, personal characteristics (e.g., height and weight), records regarding tax payment and financial matters, records regarding employment, medical records, military and Selective Service records, records regarding organization membership or affiliation, biometric and other information collected to issue immigration cards evidencing receipt of immigration benefits and to conduct background checks and necessary to determine the existence of criminal history or other history necessary to make immigration decisions. Records in the system may also include case processing information such as date applications were filed or received by USCIS, application/petition status, location of record, FOIA/PA or other control number when applicable, and fee receipt data, and by application/petition receipt number.

Safeguards:

Records in this system are safeguarded in accordance with applicable rules and policies, including all applicable DHS automated system security access policies. Strict controls have been imposed to minimize the risk of compromising the information that is being stored. Access to the computer system containing the records in this system is limited to those individuals who have a need to know the information for the performance of their official duties and who have appropriate clearances or permissions. The system maintains a real-time auditing function of individuals who access the system. Additional safeguards may vary by component and program.

Retention and Disposal:

Electronic benefits information is archived and disposed of in accordance with the criteria approved by NARA. Electronic data pertaining to applications for naturalization will be deleted 15 years after the processing of the benefit being sought is completed. Information in the master file is destroyed 15 years after the last completed action with respect to the application. System documentation (e.g., manuals) are destroyed when the system is superseded, obsolete, or no longer needed for agency business.

Electronic records extracted from immigrant and nonimmigrant benefits applications and petitions other than naturalization, asylum, or refugee status completed by applicants or petitioners is destroyed after the data is transferred to the electronic master file and verified. Information in the master file is destroyed 15 years after the last completed action with respect to the application. Daily reports generated by associated information technology systems are maintained for 15 years by the service center that generated the reports and then destroyed.

System Manager(s) and Address:

The system manager is the Director, Office of Records Services, Department of Homeland Security, 111 Massachusetts Avenue, NW., Second Floor, Washington, DC 20529.

Notification Procedures:

Individuals seeking notification of and access to any record contained in this system of records, or seeking to contest its content, may submit a request in writing to National Records Center, FOIA/PA Office, P.O. Box 648010, Lee's Summit, MO 64064-8010. Specific FOIA contact information can be found at http://www.dhs.gov/foia under “Contacts.”

When seeking records about yourself from this system of records or any other USCIS system of records, your request must conform with the Privacy Act regulations set forth in 6 CFR Part 5. You must first verify your identity, meaning that you must provide your full name, current address and date and place of birth. You must sign your request, and your signature must either be notarized or submitted under 28 U.S.C. 1746, a law that permits statements to be made under penalty or perjury as a substitute for notarization. While no specific form is required, you may obtain forms for this purpose from the Director, Disclosure and FOIA, http://www.dhs.gov or 1-866-431-0486. In addition you should provide the following:

• An explanation of why you believe the Department would have information on you,

• Specify when you believe the records would have been created,

• If your request is seeking records pertaining to another living individual, you must include a statement from that individual certifying his/her agreement for you to access his/her records.

Without this bulleted information, USCIS will not be able to conduct an effective search, and your request may be denied due to lack of specificity or lack of compliance with applicable regulations.

Record Access Procedures:

See “Notification procedure” above.

Contesting Record Procedures:

See “Notification procedure” above.

Record Source Categories:

Information contained in this system of records is obtained from the individuals covered by the system.

Exemptions Claimed for the System:

None.

Hugo Teufel III,
Chief Privacy Officer, Department of Homeland Security.

[FR Doc. E8-22802 Filed 9-26-08; 8:45 am]

BILLING CODE 4410-10-P